DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held March 14, 2006, starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• March 14:

• Opening Session (Welcome and Introductory Remarks, Review/Approve Summary of Previous Meeting).

• Publication Consideration/Approval:

• Final Draft, Assessment of TCAS II Aural And Display Issues, RTCA Paper No. 027-06/PMC-440, prepared by SC-147.

• Final Draft, Revised DO-294, Guidance on Allowing Transmitting Portable Electronic Devices (T-PEDs) on Aircraft, RTCA Paper No. 028-06/PMC-441, prepared by SC-202.

• Discussion:

• EUROCARE WG68—Altimetry.

• Review EUROCAE Initiative.

• Possible New Special committee.

• EUROCAE WG72—Aeronautical Systems Security.

• Review EUROCAE Initiative.

• Possible New Special Committee.

• Special Committee Chairman's Reports.

• RTCA Annual Awards—Review Nominations.

• Action Item Review:

• Synthetic Vision Systems (SVS)—Discussion—Possible New Committee Request.

• SC-147—Traffic Alert & Collision Avoidance Systems-Discussion-Possible New Committee Request.

• SC-203—Unmanned Aircraft Systems (UAS)—Discussion-Schedule.

• Report on Committee Recommendations to Expedite Progress.

• Report on Possible Joint RTCA/EUROCAE UAS activity.

• Cabin Management Systems—Report—PMC CMS Subgroup.

• Request to revise DO-239—MOPS for Traffic Information Service Data Link Communications—Discussion.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued: in Washington, DC, on February 17, 2006.
Francisco Estrada C.,
RTCA Advisory Committee.

[FR Doc. 06-2006 Filed 3-2-06; 8:45 am]

BILLING CODE 4910-13-M